DEPARTMENT OF AGRICULTURE

Submission for OMB Review; Comment Request

August 12, 2003.

The Department of Agriculture has submitted the following information collection requirement(s) to OMB for review and clearance under the Paperwork Reduction Act of 1995, Pub. L. 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechnanical, or other technological collection techniques or other forms of information technology should be addressed to: Desk Officer for Agriculture, Office of Information and Regulatory Affairs, Office of Management and Budget (OMB), Pamela_Beverly_ OIRA_Submission@OMB.EOP,GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Office of Procurement and Property Management

Title: Maximum Workweek—Construction Schedule.

OMB Control Number: 0505-0011.

Summary of Collection: In order to obtain goods or services such as construction services, the United States Department of Agriculture (USDA), like other Federal agencies, has established agency contracting offices to enter into Federal contracts. These offices employ contracting officers, who solicit bids or offers for work from businesses in the private sector. When USDA contracts for construction services, both the contracting officer and the contractor needs to establish a schedule for the work. The contractor needs to ensure that his weekly work schedule will not conflict with the time during which USDA may allow him access to the work site. The contracting officer needs to know when the contractor will be working in order to schedule on-site conferences, to perform quality assurance inspections, and to perform compliance checks required to enforce the Davis Bacon Act (40 U.S.C. 276a-276a-7). Such compliance checks are specifically required by the Federal Acquisition Regulations (FAR) to conduct employee interviews, to check the type of work being performed, to verify the number of pay classification of workers at the site, and to verify that posters informing workers of their rights are displayed at the site (FAR 22.406-7(b)). Contracting officers put the Maximum Workweek—Construction Schedule clause in solicitations and contracts for construction when the contractor's access to the work site may be restricted to certain times of the day or week.

Need and Use of the Information: The Office of Procurement and Property Management (OPPM) will collect information to determine when government inspectors or representatives will be needed at the site, and to schedule contractor access to the work site. The information is not collected unless the contracting officer anticipates problems with contractor access or scheduling government inspections. If the information were not collected, contracting offices would be unable to allocate contract administration resources efficiently.

Description of Respondents: Business or other for-profit.

Number of Respondents: 400.

Frequency of Responses: Reporting: On occasion.

Total Burden Hours: 100.

Office of Procurement and Property Management

Title: Instructions for the Preparation of Technical and Business Proposals.

OMB Control Number: 0505-0013.

Summary of Collection: In order to obtain goods or services, the United States Department of Agriculture, like other Federal agencies, has established agency contracting offices to enter into Federal contracts. These offices employ contracting officers, who use various methods to award contracts for good or services. One method prescribed by Part 15 of the Federal Acquisition Regulation (48 CFR) is contracting by negotiation. In contracting by negotiation, contracting officers issue solicitations to request offers for required products or services from businesses in the private sector. Together with the solicitation document, the offeror's cost proposal and its technical and business proposals constitute the offer submitted to the contracting office for evaluation and acceptance. The technical proposal, together with the offeror's pricing, is needed to select the offeror who will be awarded a contract. The Agriculture Acquisition Regulation (AGAR) (48 CFR ch.4) prescribes the provision titled Instructions for the Preparation of Technical and Business Proposals) (48 CFR 452.215-71) helds an offeror preparing a proposal to address the factors on which it will be evaluated.

Need and Use of the Information: The Office of Procurement and Property Management (OPPM) will collect information to evaluate and determine the feasibility of the offeror's managaement, technical approach, and offered cost/price to provide the services and/or supplies required, if awarded a contract. If the information were not collected, OPPM would be unable to obtain goods and services required for its daily operations.

Description of Respondents: Business or other for-profit; Not-for-profit institutions; State, Local, or Tribal Government.

Number of Respondents: 3,600.

Frequency of Responses: Reporting: On occasion.

Total Burden Hours: 115,200.

Office of Procurement and Property Management

Title: Brand Name or Equal Provision and Clause.

OMB Control Number: 0505-0014.

Summary of Collection: In order to obtain goods or services, the United States Department of Agriculture, like other Federal agencies, has established agency contracting offices to enter into Federal contracts. The Agriculture Acquisition Regulation (48 CFR ch. 4) and the (48 CFR 411.171), provision (48 CFR 452.211-70), and a clause (48 452.211-71) permits the use of “brand name or equal” purchase descriptions to procure commercial products. Such descriptions require the offeror on a supply procurement to identify the “equal” item being offered and to indicate how that item meets the salient characteristics stated in the purchase description. The use of brand name or equal descriptions eliminates the need for bidders or offerors to read and interpret detailed specifications or purchase descriptions.

Need and Use of the Information: The Office of Procurement and Property Management (OPPM) will collect information to determine from the descriptive information furnished whether the offered “equal” item meet the salient characteristics of the Government's requirements. If information were not collected, OPPM would spend more time developing purchase descriptions and offerors would spend more time reading and interpreting the purchase descriptions.

Description of Respondents: Business or other for-profit.

Number of Respondents: 26,678.

Frequency of Responses: Reporting: On occasion.

Total Burden Hours: 2,668.

Office of Procurement and Property Management

Title: Procurement: Key Personnel Clause.

OMB Control Number: 0505-0015.

Summary of Collection: In order to obtain goods or services, the United States Department of Agriculture (USDA), like other Federal agencies, has established agency contracting offices to enter into Federal contracts. These offices employ contracting officers, who issue solicitations to request offers (proposals) for required products or services from businesses in the private sector. When USDA wishes to acquire research and development services (R&D), information technology (IT) design or support services, or advisory and assistance services, it must consider the capabilities of the personnel who the contractor assigns to the job. The contributions of certain contractor employees may be critical to the success of the work. Such employees are designated as “Key Personnel.” The Agriculture Acquisition Regulation (48 CFR ch.4) (48 CFR 437.110) and 48 CFR 452.237-74) prescribes the Key Personnel clause to collect information about key contractor personnel. The contracting officer uses the Key Personnel clause to require the contractor to inform USDA, if a key person will no longer be available to perform work on the contract. Contractors whose contracts include the key personnel clause are required to notify the contracting officer about proposed substitutions for key personnel identified in the contract.

Need and Use of the Information: The Office of Procurement and Property Management (OPPM) will collect information to determine whether the departure of a key person from the contractor's staff could jeopardize contract performance and to determine what accommodations or remedies may be taken. If the OPPM could not obtain information about departing key personnel, it could not ensure that qualified personnel continue to perform contract work.

Description of Respondents: Business or other for-profit; Non-for-profit institutions; State, Local, or Tribal Government.

Number of Respondents: 300.

Frequency of Responses: Reporting: On occasion.

Total Burden Hours: 300.

Office of Procurement and Property Management

Title: Progress Reporting Clause.

OMB Control Number: 0505-0016.

Summary of Collection: In order to obtain goods or services, the United States Department of Agriculture, like other Federal agencies, has established agency contracting offices to enter into Federal contracts. These offices employ contracting officers, who request bids or offers for work from businesses in the private sector using solicitations. In order to administer contracts for research and development services (R&D), or for advisory and assistance services (AAS), contracting officers need information about contractor progress in performing the contracts. The Agriculture Acquisition Regulation (48 CFR ch.4) (48 CFR 437.270(a)) and (48 CFR 452.237-76) prescribe the Progress Reporting Clause to collect information about contractor progress. Contracting officers include the Progress reporting Clause in R&D and AAS contracts to obtain information from the contractors about their performance.

Need and Use of the Information: The Office of Procurement and Property Management will collect information to compare actual progress and expenditures to anticipated performance and contractor representations on which the award was based. The information alerts the agency of technical problems; the need for additional staff resources or finding; and the probability of timely completion within the contract cost or price. If the contracting officers could not obtain progress report information, they would have to physically monitor the contractor's operation on a day-to-day basis throughout the performance period.

Description of Respondents: Business or other for-profit; Non-for-profit institutions; State, Local, or Tribal Government.

Number of Respondents: 300.

Frequency of Responses: Reporting: Quarterly; Monthly.

Total Burden Hours: 5,400.

Foreign Agricultural Service

Title: Trade Adjustment Assistance for Farmers (TAA).

OMB Control Number: 0551-NEW.

Summary of Collection: The Trade Act of 2002 (HR 3009) (Pub. L. 107-210), signed into law on August 6, 2002, established a Trade Adjustment Assistance Program (TAA) for farmers. The primary objective of this new program is to provide technical and cash assistance to producers of raw agricultural commodities in cases where increased imports of a like or directly competitive product have contributed importantly to declines in domestic prices over a specified period of time.

Need and Use of the Information: The Foreign Agricultural Service (FAS) will collect information to permit producers to petition and apply for program benefits. The information is needed to determine eligibility to obtain benefits under the new program providing trade adjustment assistance for farmers and to ascertain the amount of payments an adversely affected producer is entitled to receive. The information collected will provide essential data and economic information for use by the FAS, Farm Service Agency, Economic Research Service, Extension Service, and other agencies within the Department.

Description of Respondents: Farms; Not-for-profit; Business or other for-profit.

Number of Respondents: 500.

Frequency of Responses: Reporting: Annually.

Total Burden Hours: 7,000.

Farm Service Agency

Title: Disaster Assistance—General (7 CFR part 1945-A).

OMB Number Control: 0560-0170.

Summary of Collection: Subtitle C of the Consolidated Farm and Rural Development Act of 1972, as amended, authorizes emergency loss (EM) loans for the purpose of assisting farmers and ranchers who have suffered weather-related physical and production losses in areas declared by the President, designated by the Secretary of Agriculture, or named for physical loss loans by the Farm Service Agency (FSA) Administrator. For EM production loss loan, applicants must show a 30% loss in at least one basic farming enterprise. For physical losses, applicants must show that property damaged or destroyed is essential to the continued operation of the farming or ranching operations. Applicant must be unable to obtain commercial credit or recover from the disaster and meet the specific eligibility and repayment requirements. FSA will collect information to evaluate requests for a Secretarial natural disaster designation.

Need and Use of the Information: FSA will collect information to determine whether sufficient losses have been suffered to warrant a Secretarial natural disaster designation, determine whether extenuating circumstances exist to grant a natural disaster designation under the Secretary's discretionary authority. The information will be used by FSA to process State Governor requests for Secretarial natural disaster designations.

Description of Respondents: Farms; Federal Government; State, Local or Tribal Government.

Number of Respondents: 2,889.

Frequency of Responses: Reporting: On occasion.

Total Burden Hours: 1,452.

Food and Nutrition Service

Title: Federal Collection Methods for Food Stamp Program Recipient Claims.

OMB Control Number: 0584-0446.

Summary of Collection: The Debt Collection Improvement (DCIA), Food Stamp (FSA) and Privacy Act require that State agencies advise debtors of the intended referral to the Treasury Offset Program (TOP). TOP is a method used to collect debts owed for over-issued food stamp recipient claims. TOP offers debtors an opportunity to repay the claim, and offer debtors an opportunity to request a review of the validity of the collection action.

Need and Use of the Information: The information collected is used to operate Federal offset. State agencies collect this information to offset debts as a result of over-issuance of recipient claims. Without the information, compliance with the DCIA would not be possible and departmental participation in TOP would be jeopardized.

Description of Respondents: State, Local, or Tribal Government; Individual or households; Federal Government.

Number of Respondents: 279,119.

Frequency of Responses: Reporting: On occasion; Annually.

Total Burden Hours: 56,123.

Food and Nutrition Service

Title: Consumer Study.

OMB Control Number: 0584-NEW.

Summary of Collection: Under Subtitle D of the National Agriculture Research, Extension, and Teaching Policy Act of 1977 (7 U.S.C. 3171-3175), the Secretary of Agriculture is required to develop and implement a national food and human nutrition research and extension program, including the development of techniques to assist consumers in selecting food that supplies a nutritionally adequate diet. The Center for Nutrition Policy and Promotion (CNPP) has the authority to develop materials to aid the public in selecting food for good nutrition; coordinate nutrition education promotion and professional education projects with the Department; and consult with the Federal and State agencies, the Congress, universities, and other public and private organizations and the general public regarding food consumption and dietary adequacy.

Need and Use of the Information: CNPP will collect information using 8 focus group sessions with women ages 20-40 years. The information collected will help to expand the knowledge base concerning the public's perceived relationship between portion size, counting calories, and a healthy weight. The information collected will also assist CNPP in its efforts to develop campaign messages and materials to help Americans achieve or maintain a healthy weight through increased awareness of how much they eat.

Description of Respondents: Individuals or households.

Number of Respondents: 1,280.

Frequency of Responses: Reporting: Other (one-time).

Total Burden Hours: 432.

Risk Management Agency

Title: General Administrative Regulations; Subpart V Submission of Policies, Provisions of Policies, and Rates of Premium.

OMB Control Number: 0563-New.

Summary of Collections: The Federal Crop Insurance Corporation (FCIC) amends the procedures for the submission of policies, plans of insurance, or other rates or premium by insurance companies, entities or other persons. Public Law 96-365 provided for nationwide expansion of a comprehensive crop insurance program. The Federal Crop Insurance Act, as amended, expanded the role of the crop insurance to be the principal tool for risk management by producers of farm products and required that the crop insurance program operate on an actuarially sound basis.

Need and Use of the Information: The Board will review an applicant's submissions to determine if the interests of agricultural producers and taxpayers are protected; the submission is actuarially appropriate; appropriate insurance principles are followed; the requirements of the Act are met; and that sound, reasonable and appropriate underwriting principals are followed. If the information is incomplete, the submission will be disapproved.

Description of Respondents: Business or other-for-profit; Individuals or households.

Number of Respondents: 210.

Frequency of Responses: Recordkeeping: Reporting; Other.

Total Burden Hours: 57,000.

Rural Utilities Service

Title: 7 CFR 1703, subparts D, E, F, and G, Distance Learning and Telemedicine Loan and Grant Program.

OMB Control Number: 0572-0096.

Summary of Collection: The Rural Utilities Service (RUS) is a credit agency of the Department of Agriculture and is authorized by Chapter 1 of subtitle D of the Food, Agriculture, Conservation and Trade Act of 1990. The purpose of the Distance Learning and Telemedicine Loan and Grant program is to improve telemedicine services and distance learning services in rural areas through the use of telecommunications, computer networks, and related advanced technologies by students, teachers, medical professionals and rural residents.

Need and Use of the Information: The various forms and narrative statements required are collected from eligible applicants such as rural community facilities, schools, libraries, hospitals, and medical facilities. The purpose of this information is to determine such factors as: eligibility of the applicant; the specific nature of the proposed project; the purposes for which loan and grant funds will be used; project financial and technical feasibility; and compliance with applicable laws and regulations.

Description of Respondents: Business or other for-profit; Not-for-profit institutions; State, Local, or Tribal Government.

Number of Respondent: 280.

Frequency of Responses: Recordkeeping; Reporting: On occasion.

Total Burden Hours: 14,693.

Rural Housing Service

Title: 7 CFR 1924-F, Complaints and Compensation Defects.

OMB Control Number: 0575-0082.

Summary of Collection: Section 509 of Title V of the Housing Act of 1949, as amended, authorizes the Rural Housing Service (RHS) to pay the costs for correcting defects or compensation borrowers of Section 502 Direct loan funds for expenses arising out of defects with respect to newly constructed dwellings and new manufactured housing units with authorized funds. This regulation provides instruction to all RHS personnel to enable them to implement a procedure to accept and process complaints from borrowers/owners against builders and dealers/contractors, to resolve the complaint informally and when the complaint involves structural defects which cannot be resolved by cooperation of the builder or dealer/contractor, authorizes expenditure to resolve the defect with grant funds. Resolution could involve expenditure for (1) repairing defects; (2) reimbursing for emergency repairs; (3) pay temporary living expenses or (4) convey dwelling to RHS with release of liability for the RHS loan.

Need and Use of the Information: The information is collected from agency borrowers and the local agency office serving the county in which the dwelling is located. This information is used by Rural Housing Staff to evaluate the request and assist the borrower in identifying possible causes and corrective actions. The information is collected on a case-by-case basis when initiated by the borrower. Without this information, RHS would be unable to assure that eligible borrowers would receive compensation to repair defects to their newly constructed dwellings.

Description of Respondents: Business or for-profit.

Number of Respondents: 500.

Frequency of Responses: Reporting: On occasion.

Total Burden Hours: 200.

Rural Housing Service

Title: 7 CFR 1965-B Security Servicing for Multiple Family Housing Loans.

OMB Control Number: 0575-0100.

Summary of Collection: The Rural Housing Service Loan and Grant Program under Sections 514, 515, 516, and 521 of Title V of the Housing Act of 1949, as amended, provides loans and grants to eligible recipients for the development and operation of rural rental housing projects. These programs are intended to meet the housing needs for rural persons or families including senior citizens, the handicapped or disabled, and domestic farm laborers of low to moderate-income. The information will be prepared and submitted to the agency by the borrower or the borrower's representative. Agency forms and guides will be provided to assist the borrower or the borrower's designee in the preparation of information and to streamline the collection and review of the information.

Need and Use of the Information: In order to assist its borrowers to operate and maintain these properties to meet program objectives, improve the agency's ability to assure the continued viability of the program, information needs to be collected to process borrower initiated requests. The borrower or grantee organizations are required to prepare periodic agency financial reports to enable the agency to fulfill its statutory mandate for supervision of borrower operations. Information is also required for eligibility determinations to allow continued participation in the program, as necessary to achieve the objectives of the loan and to protect the interest of the Government, the tenants, and the community.

Description of Respondents: Reporting: On occasion.

Number of Respondents: 945.

Frequency of Responses: Reporting: On occasion.

Total Burden Hours: 1587.

Agricultural Marketing Service

Title: 7 CFR part 54—Meats, Prepared Meats, and Meat Products (Grading, Certification, and Standards).

OMB Control Number: 0581-0124.

Summary of Collection: The Agricultural Marketing Act of 1946, as amended, authorizes the Secretary of Agriculture to provide consumers with voluntary Federal meat grading and certification services that facilitate the marketing of meat and meat products. This is accomplished by providing meat and meat products that are uniform in quality. The Meat Grading and Certification (MGC) Branch provides these services under the authority of 7 CFR part 54—Meats, Prepared Meats, and Meat Products (Grading, Certification, and Standards). The Agricultural Marketing Service (AMS) will collect information using forms LS-313, “Application for Service,” and LS-315, “Application for Commitment Grading or Certification Service.”

Need and Use of the Information: AMS will collect information to identify the responsible authorities in establishments requesting services and to initiate billing and collection accounts. A signed (Form LS-313 or LS-315) serves as a legal agreement between USDA users of the services and constitutes authorization for any employee of AMS to enter the establishment for the purpose of performing official functions under the regulations. Without a properly signed and approved form, AMS officials would not have the authority to enter the premises to provide grading and/or certification services.

Description of Respondents: Business or other for-profit.

Number of Respondents: 450.

Frequency of Responses: Reporting: On occasion.

Total Burden Hours: 212.

Agricultural Marketing Service

Title: Olives Grown in California.

OMB Control Number: 05881-0142.

Summary of Collection: Marketing order 932 (7 CFR part 932), covering the handling of olives grown in California, emanates from enabling legislation (The Agricultural Marketing Agreement Act of 1937, Sections 1-19, 48 Stats. 31, as amended; 7 USC 601-674). The order authorizes the issuance of grade and size standards, and incoming and outgoing inspection requirements. The order also has authority for research and development projects, including paid advertising. Forms were developed as a means for persons to file required information with the committee relating to the olive supplies, shipments, and dispositions.

Need and Use of the Information: Agricultural Marketing Service (AMS) will collect information to determine olive inventories, acquisition of olives, shipments, and disposition. Authorized representatives of the USDA, including AMS, Fruit and Vegetable Programs' regional and headquarters' staff, and authorized employees would use the information collected.

Description of Respondents: Business or other for-profit; Farms.

Number of Respondents: 691.

Frequency of Responses: Recordkeeping; On occasion; Other (2-6 years).

Total Burden Hours: 2,850.

Risk Management Agency

Title: Multiple Peril Crop Insurance.

OMB Control Number: 0563-0053.

Summary of Collection: Previous amendments to the Federal Crop Insurance Act expanded the role of the crop insurance program to be the principal tool for risk management by producers of farm products and provided that crop insurance program operate on an actuarially sound basis, provided for independent review of crop insurance products by person experienced as actuaries and in underwriting, and required that the crop insurance program operate on an actuarially sound basis. To meet these goals, existing crop programs must be improved and expanded, new crop products developed, and new insurance concepts studied for possible implementation. Federal Crop Insurance Corporation (FCIC) offers a Standard Reinsurance Agreement to eligible crop insurance companies under which FCIC will use data elements instead of standards forms.

Need and Use of the Information: FCIC requires crop acreage information to be submitted to the insurance agent by each producer on or before a specific date. The basic provision for the reporting of acreage covers information such as the name of the crop, the number of timely planted acres, person sharing in the crop, location of the acreage, etc. This information is used to determine liability, premium and subsidy. Federal agencies, Risk Management Agency, crop insurance companies reinsured by FCIC, and other agencies that require such information in the performance of their duties may use this information. If the information were not collected by specified dates, the producers may not have insurance coverage or the amount of insurance may be reduced and the crop insurance program would not be administered in an actuarially sound manner.

Description of Respondents: Farms; Business or other for-profit.

Number of Respondents: 1,310,553.

Frequency of Responses; Recordkeeping; Reporting: Quarterly; Weekly; Semi-annually; Monthly; Annually.

Total Burden Hours: 1,447,152.

Sondra A. Blakey,
Departmental Information Collection Clearance Officer.

[FR Doc. 03-20958 Filed 8-15-03; 8:45 am]

BILLING CODE 3410-01-M